DEPARTMENT OF HOMELAND SECURITY

Coast Guard

33 CFR Part 100

[Docket No. USCG-2013-0869]

RIN 1625-AA08

Special Local Regulations; Recurring Marine Events in the Seventh Coast Guard District

AGENCY: Coast Guard, DHS.

ACTION: Notice of enforcement of regulation.

SUMMARY: The Coast Guard will enforce the special local regulations pertaining to the Key West World Championship in the Atlantic Ocean, off Key West, FL from 9:30 a.m. until 4:30 p.m. on November 10, 2013. This action is necessary to protect race participants, participant vessels, spectators, and the general public from the hazards associated with high-speed boat races. The special local regulations establish regulated areas on the waters of the Key West Main Ship Channel, Key West Turning Basin, and Key West Harbor Entrance. During the enforcement period, no person or vessel may enter the regulated area without permission from the Captain of the Port.

DATES: The regulations in 33 CFR 100.701 will be enforced from 9:30 a.m. until 4:30 p.m. on November 10, 2013.

FOR FURTHER INFORMATION CONTACT: If you have questions on this notice, call or email Marine Science Technician First Class Ian G. Bowes, Sector Key West Prevention Department, Coast Guard; telephone 305-292-8809 extension 5, email Ian.G.Bowes@uscg.mil.

SUPPLEMENTARY INFORMATION: The Coast Guard will enforce the Special Local Regulations for the annual Key West World Championship Super Boat Race in 33 CFR 100.701 on November 10, 2013, from 9:30 a.m. until 4:30 p.m. These regulations can be found in the 2013 issue of the Federal Register 33 CFR 100.701.

On November 6, 8, and 10, 2013, Super Boat International Productions, Inc. is hosting the Key West World Championship, a series of high-speed boat races. Under the provisions of 33 CFR 100.701, no unauthorized person or vessel may enter, transit through, anchor within, or remain in the established regulated areas. The event will be held on the waters of the Atlantic Ocean located southwest of Key West, Florida. Approximately 75 high-speed power boats will be participating in the races. It is anticipated that at least 100 spectator vessels will be present during the races.

The special local regulations will be enforced from 9:30 a.m. until 4:30 p.m. on November 10, 2013. The Coast Guard will provide notice of the regulated area by Local Notice to Mariners, Broadcast Notice to Mariners, and on-scene designated representatives. The Coast Guard may be assisted by other Federal, State, or local law enforcement agencies in enforcing this regulation. The events on November 6, 2013 and November 8, 2013 will be enforced with actual notice.

This notice is issued under authority of 33 CFR 100.701 and 5 U.S.C. 552(a). In addition to this notice in the Federal Register, the Coast Guard will provide the maritime community with advance notification of this enforcement period via a Broadcast Notice to Mariners.

Dated: October 24, 2013.
A.S. Young, Sr.,
Captain, U.S. Coast Guard, Captain of the Port Key West.

[FR Doc. 2013-26816 Filed 11-7-13; 8:45 am]

BILLING CODE 9110-04-P